OFFICE OF PERSONNEL MANAGEMENT

Personnel Demonstration Project; Alternative Personnel Management System for the U.S. Department of Commerce

AGENCY: Office of Personnel Management.

ACTION: Notice of modification to the Department of Commerce Personnel Management Demonstration Project.

SUMMARY: The Office of Personnel Management (OPM) has authority to conduct demonstration projects that experiment with new and different human resources management concepts to determine whether changes in policies and procedures result in improved Federal human resources management. OPM approved a demonstration project covering several operating units of the U.S. Department of Commerce (DoC). OPM must approve modifications to demonstration project plans. This notice rescinds the demonstration project's independent authority pertaining to recruitment and retention payments. By so doing, it allows the demonstration project to take advantage of the expanded recruitment and retention flexibilities applicable to General Schedule and other employees.

DATES: This notice modifying the DoC Demonstration Project may be implemented upon publication.

FOR FURTHER INFORMATION CONTACT: Department of Commerce:

Joan Jorgenson, U.S. Department of Commerce, 14th and Constitution Avenue, NW., Room 5004, Washington, DC 20230, (202) 482-4233. Office of Personnel Management: Jill Rajaee, U.S. Office of Personnel Management, 1900 E Street, NW., Washington, DC 20415, (202) 606-0836.

SUPPLEMENTARY INFORMATION:

1. Background

The Office of Personnel Management (OPM) approved the Department of Commerce (DOC) Demonstration Project and published the final plan in the Federal Register Volume 62, Number 247, Part II, on Wednesday, December 24, 1997. The project was implemented on March 29, 1998, and modified in the Federal Register on Thursday, September 30, 1999, Volume 64, Number 189 [Notices] [Pages 52810-52812], and on Tuesday, August 12, 2003, Volume 68, Number 155 [Notices] [Pages 47948-47949]. OPM approved a request to extend the DOC Demonstration Project for five years as stated in an administrative letter from OPM, dated February 14, 2003. The project was approved for expansion in the Federal Register Volume 68, Number 180 [Notices] [Pages 54505-54507], on Wednesday, September 17, 2003, to include an additional 1,505 employees. The demonstration project was again modified on Tuesday, July 5, 2005, Volume 70, Number 127 [Notices] [Pages 38732-38733]. This notice rescinds the demonstration project's independent authority pertaining to recruitment and retention payments. By so doing, it allows the demonstration project to take advantage of the expanded recruitment and retention flexibilities under 5 U.S.C. 5753 and 5754, and subparts A and C of 5 CFR part 575.

Authority: 5 U.S.C. 4703; 5 CFR 470.315

Office of Personnel Management.
Linda M. Springer,
Director.

Table of Contents

I. Executive Summary

II. Basis for Project Plan Modification

III. Changes to the Project Plan

I. Executive Summary

The Department of Commerce (DOC) Demonstration Project utilizes many features similar to those implemented by the National Institute of Standards and Technology (NIST) Demonstration Project in 1988. The DOC Demonstration Project supports several key objectives: To simplify the classification system for greater flexibility in classifying work and paying employees; to establish a performance management and rewards system for improving individual and organizational performance; and to improve recruitment and retention to attract highly qualified candidates. The project is designed to test whether the interventions of the NIST project, which is now a permanent alternative personnel system, could be successful in other DOC environments. The current participating organizations include the Office of the Chief Financial Officer and Assistant Secretary for Administration (CFO/ASA), the Technology Administration, the Bureau of Economic Analysis, the Institute for Telecommunication Sciences, and units of the National Oceanic and Atmospheric Administration: Office of Oceanic and Atmospheric Research, National Marine Fisheries Service, and the National Environmental Satellite, Data, and Information Service.

II. Basis for Project Plan Modification

As part of the Commerce Demonstration Project plan, as published in the Federal Register notice (62 FR 67434), the recruitment bonus and retention allowance authorities under 5 U.S.C. 5753 and 5754, and subparts A and C of 5 CFR part 575, were waived for the DOC Demonstration Project and replaced with an independent authority to pay recruitment and retention payments. Based on independent evaluations, the recruitment and retention payment flexibilities have been underutilized in the demonstration project. The changes in statute made by section 101 of the Federal Workforce Flexibility Act of 2004 (Pub. L. 108-411, October 30, 2004) provide robust recruitment and retention incentives in an effort to address challenges such as labor market competition and skill gap issues. However, because of the previous waivers, the demonstration project is precluded from taking advantage of these tools to address recruitment and retention concerns. This notice removes the demonstration project's independent authority to pay recruitment and retention payments, thereby allowing the project to use the recruitment and retention incentive authorities in 5 U.S.C. 5753 and 5754, and subparts A and C of 5 CFR part 575. This will provide managers in the demonstration project the same flexibilities now available to General Schedule and other employees under title 5. The demonstration project needs to be able to take advantage of legislative changes to title 5 when appropriate. It should be noted that since the demonstration project did not waive 5 U.S.C. 5753 or subpart B of 5 CFR part 575 pertaining to relocation bonuses, the demonstration project could use the relocation incentive flexibilities provided by the Federal Workforce Flexibility Act of 2004 and implementing regulations prior to this notice. This notice continues to allow the demonstration project to use the title 5 relocation incentive authority.

III. Changes to the Project Plan

This notice modifies the Commerce demonstration plan by rescinding its independent authority related to recruitment and retention payments, thereby providing authority to use recruitment and retention incentive authorities under 5 U.S.C. 5753 and 5754, and subparts A and C of 5 CFR part 575. The following discussion refers readers to the substantive changes to the project plan. The following page numbers refer to the pages in the final plan, published in the Federal Register on December 24, 1997.

(1) Page 67451: Remove Paragraph B.12, “Recruitment and Retention Payments,” and renumber Paragraphs B.13, “Travel Expenses,” and B.14, “Promotion,” as Paragraphs B.12 and B.13, respectively.

(2) Page 67463: In section X, “Authorities and Waiver of Laws and Regulations Required,” remove the following waivers:

—“5 U.S.C. 5753-5754 Recruitment and relocation bonuses; Retention allowances (except that relocation bonuses under Section 5753 continue to apply),”

—“Part 575, Subpart A, Recruitment bonuses,” and

—“Part 575, Subpart C, Retention allowances.”

(3) Page 67463: In section X, “Authorities and Waiver of Laws and Regulations Required,” add the following new waivers:

—Before the waiver for “Section 7512(3),” insert “Section 5753 and 5754 Recruitment, Relocation and Retention Incentives. This waiver applies only to the extent necessary to allow employees and positions under the demonstration project to be treated as employees and positions under the General Schedule or the SL/ST pay plan.”

—Before the waiver for “Section 752.401(a)(3),” insert “Part 575, Subparts A, B and C, Recruitment, Relocation and Retention Incentives. This waiver applies only to the extent necessary to allow employees and positions under the demonstration project to be treated as employees and positions under the General Schedule or the SL/ST pay plan.”

[FR Doc. 06-4049 Filed 4-28-06; 8:45 am]

BILLING CODE 6325-43-P